DEPARTMENT OF LABOR

Office of the Assistant Secretary for Veterans' Employment and Training

The Advisory Committee on Veterans' Employment, Training and Employer Outreach (ACVETEO); Notice of Open Meeting

The Advisory Committee on Veterans' Employment, Training and Employer Outreach (ACVETEO) was established pursuant to Title II of the Veterans' Housing Opportunity and Benefits Improvement Act of 2006 (P.L. 109-233) and Section 9 of the Federal Advisory Committee Act (FACA) (P.L. 92-462, Title 5 U.S.C. app.II). The ACVETEO's authority is codified in Title 38 U.S. Code, Section 4110.

The ACVETEO is responsible for assessing employment and training needs of veterans; determining the extent to which the programs and activities of the Department of Labor meets these needs; and assisting in carrying out outreach to employers seeking to hire veterans.

The Advisory Committee on Veterans' Employment, Training and Employer Outreach will meet on Monday, February 11th from 1 p.m. to 5 p.m. and on Tuesday, February 12th from 8 a.m. to 1:30 p.m. at the Doubletree Hotel, 3203 Quebec Street, Denver, Colorado 80207.

The committee will discuss programs assisting veterans seeking employment with special emphasis on transition assistance programs (TAP) and raising employer awareness as to the advantages of hiring veterans.

Individuals needing special accommodations should notify Bill Offutt at (202) 693-4717 by February 2, 2008.

Signed in Washington, DC, this 6th day of December 2007.
John M. McWilliam,
Deputy Assistant Secretary, Veterans Employment and Training.

[FR Doc. E7-24157 Filed 12-12-07; 8:45 am]

BILLING CODE 4510-79-P